DEPARTMENT OF ENERGY

Federal Energy Regulatory Commission

[Project No. 14892-000]

Notice of Preliminary Permit Application Accepted for Filing and Soliciting Comments, Motions To Intervene, and Competing Applications: Badger Mountain Hydro, LLC

On October 2, 2018, Badger Mountain Hydro, LLC filed an application for a preliminary permit, pursuant to section 4(f) of the Federal Power Act, proposing to study the feasibility of the Badger Mountain Pumped Storage Project (project) to be located near East Wenatchee in Douglas County, Washington. The sole purpose of a preliminary permit, if issued, is to grant the permit holder priority to file a license application during the permit term. A preliminary permit does not authorize the permit holder to perform any land-disturbing activities or otherwise enter upon lands or waters owned by others without the owners' express permission.

The proposed project will be a closed-loop pumped storage project with initial fill and make up water coming from local water rights holders, tentatively identified as the Greater Wenatchee Irrigation District. Water would be delivered from the District's Veedol Tank via an approximately 0.7-mile-long, 12-inch-diameter buried steel pipe to a new lower reservoir. The proposed project would consist of: An upper 5- to 40-foot-high, 7,500-foot-long zoned earth/rockfill ring dam enclosing the 70-acre upper reservoir with storage capacity of 2,000 acre-feet; a lower 35-foot-high, 540-foot-long zoned earth/rockfill primary dam and 10-foot-high, 830-foot-long earthen supplemental dam enclosing the 80-acre lower reservoir with storage capacity of 2,600 acre-feet; a 600-foot-long, 14-foot-diameter unlined or concrete-lined low pressure tunnel; a 30-foot-diameter, 50-foot-high concrete surge tank; two 5,200-foot-long, 10-foot-diameter steel penstocks; a powerhouse with a 220-foot-high, 65-foot-diameter steel and concrete shaft, and two 150-megawatt (MW) reversible pump-turbines/motor-generators for a total installed capacity of 300 MW; a 1,200-foot-long, 17-foot-diameter concrete-lined tailrace tunnel; a 230-kilovolt (kV), 3.7-mile-long transmission line interconnecting with the existing Puget Sound Energy Rocky Reach-Cascade transmission line, and a possible second transmission line interconnecting with the existing 230-kV Bonneville Power Administration Rocky Reach-Columbia transmission line 500 feet from the powerhouse.

The estimated average annual generation of the project would be 473,040 megawatt-hours.

Applicant Contact: Matthew Shapiro, CEO, Gridflex Energy, LLC, 1210 W. Franklin St. #2, Boise, ID 837021, phone (208) 246-9925.

FERC Contact: Peter McBride, (202) 502-8132, peter.mcbride@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14892-000.

More information about this project, including a copy of the application, can be viewed or printed on the eLibrary link of Commission's website at http://www.ferc.gov/docs-filing/elibrary.asp. Enter the docket number (P-14892) in the docket number field to access the document. For assistance, contact FERC Online Support.

Dated: November 21, 2018.
Nathaniel J. Davis, Sr.,
Deputy Secretary.

[FR Doc. 2018-25923 Filed 11-27-18; 8:45 am]

BILLING CODE 6717-01-P